NUCLEAR REGULATORY COMMISSION

[Docket Nos. 50-454, 50-455, 50-298, 50-275, 50-323, 50-237, 50-249, 50-341, 50-166, 50-277, 50-278, 50-440, 50-280, 50-281, 50-387, 50-388; NRC-2020-0110]

Issuance of Multiple Exemptions in Response to COVID-19 Public Health Emergency

AGENCY: Nuclear Regulatory Commission.

ACTION: Exemptions; issuance.

SUMMARY: The U.S. Nuclear Regulatory Commission (NRC) issued 10 exemptions in response to requests from 8 licensees. The exemptions afford these licensees temporary relief from certain requirements under NRC regulations. The exemptions are in response to the licensees' requests for relief due to the coronavirus disease 2019 (COVID-19) public health emergency (PHE). The NRC is issuing a single notice to announce the issuance of the exemptions.

DATES: During the period from September 3, 2020, to September 28, 2020, the NRC granted ten exemptions in response to requests submitted by licensees from June 16, 2020, to September 14, 2020.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from September 3, 2020, to September 28, 2020, the NRC granted 10 exemptions in response to requests submitted by licensees from June 16, 2020, to September 14, 2020. These exemptions temporarily allow the licensees to deviate from certain requirements (as cited below) of various parts of chapter I of title 10 of the Code of Federal Regulations (10 CFR Ch. I).

The exemptions from certain requirements of 10 CFR part 26, “Fitness for Duty Programs,” for Exelon Generation Company, LLC (for Byron Station, Unit Nos. 1 and 2; Dresden Nuclear Power Station, Units 2 and 3; and Peach Bottom Atomic Power Station, Units 2 and 3), afford the licensee temporary relief from the work-hour controls under 10 CFR 26.205(d)(1) through (d)(7). The exemptions from 10 CFR 26.205(d)(1) through (d)(7) ensure that the control of work hours and management of worker fatigue do not unduly limit licensee flexibility in using personnel resources to most effectively manage the impacts of the COVID-19 PHE on maintaining the safe operation of these facilities. Specifically, the licensee stated that its staffing levels are affected or are expected to be affected by the COVID-19 PHE, and it can no longer meet or likely will not meet the work-hour controls of 10 CFR 26.205(d)(1) through (d)(7). The licensee has committed to effecting site-specific administrative controls for COVID-19 PHE fatigue-management for personnel specified in 10 CFR 26.4(a).

The exemptions from certain requirements of 10 CFR part 50, appendix E, “Emergency Planning and Preparedness for Production and Utilization Facilities,” section IV.F., “Training,” for Energy Harbor Nuclear Corp. (for Perry Nuclear Power Plant, Unit No. 1); Pacific Gas and Electric Company (for Diablo Canyon Nuclear Power Plant, Units 1 and 2); and Nebraska Public Power District (for Cooper Nuclear Station) to grant temporary exemptions from the biennial emergency preparedness (EP) exercise requirement. The exemptions allow a temporary exemption from the requirements of 10 CFR part 50, appendix E, regarding the conduct of the biennial emergency preparedness exercise. These exemptions will not adversely affect the emergency response capability of the facilities because affected licensee personnel are currently qualified, and the licensees' proposed compensatory measures will enable their staff to maintain their knowledge, skills, and abilities without the conduct of the biennial emergency preparedness exercise during the exemption term.

The exemption from certain requirements of 10 CFR part 55, “Operators' Licenses,” for University of Maryland (for Maryland University Training Reactor) affords the licensee a temporary exemption from requirements related to completion of biennial medical examinations of licensing operators and senior operators (under 10 CFR 55.21 and 10 CFR 55.53(i)). This licensee has committed to compensatory measures to address the delay in receipt of recommendations from a licensed physician concerning its licensed operator's health.

The exemptions from certain requirements of 10 CFR part 73 for DTE Electric Company (for Fermi-2), Susquehanna Nuclear, LLC (for Susquehanna Steam Electric Station, Units 1 and 2), and Virginia Electric and Power Company (for Surry Power Station, Unit Nos. 1 and 2), afford these licensees temporary exemptions from certain requirements of 10 CFR part 73, appendix B, “General Criteria for Security Personnel,” section VI. The exemptions will help to ensure that these regulatory requirements do not unduly limit licensee flexibility in using personnel resources in a manner that most effectively manages the impacts of the COVID-19 PHE on maintaining the safe and secure operation of these facilities and the implementation of the licensees' NRC-approved security plans, protective strategy, and implementing procedures. These licensees have committed to certain security measures to ensure response readiness and for their security personnel to maintain performance capability.

The NRC is providing compiled tables of exemptions using a single Federal Register notice for COVID-19-related exemptions instead of issuing individual Federal Register notices for each exemption. The compiled tables below provide transparency regarding the number and type of exemptions the NRC has issued. Additionally, the NRC publishes tables of approved regulatory actions related to the COVID-19 PHE on its public website at https://www.nrc.gov/about-nrc/covid-19/reactors/licensing-actions.html.

II. Availability of Documents

The tables below provide the facility name, docket number, document description, and ADAMS accession number for each exemption issued. Additional details on each exemption issued, including the exemption request submitted by the respective licensee and the NRC's decision, are provided in each exemption approval listed in the tables below. For additional directions on accessing information in ADAMS, see the ADDRESSES section of this document.

Document description | ADAMS Accession No.
Byron Station, Unit Nos. 1 and 2
Docket Nos. 50-454 and 50-455
Byron Station, Unit Nos. 1 and 2—COVID-19 related request for exemption from 10 CFR part 26 work hours requirements, dated September 3, 2020 | ML20248H361.
Byron Station, Unit Nos. 1 and 2—exemption from select requirements of 10 CFR part 26 (EPID L-2020-LLE-0139 [COVID-19]), dated September 16, 2020 | ML20253A062.
Cooper Nuclear Station
Docket No. 50-298
Cooper Nuclear Station—temporary exemption request from 10 CFR part 50, appendix E, biennial emergency preparedness exercise requirements due to COVID-19 pandemic, dated June 16, 2020 | ML20191A276.
Cooper Nuclear Station—exemption from biennial emergency preparedness exercise requirements of 10 CFR part 50, appendix E, “Emergency Planning and Preparedness for Production and Utilization Facilities,” section IV.F (EPID L-2020-LLE-0102 [COVID-19]), dated September 3, 2020 | ML20203M129.
Diablo Canyon Nuclear Power Plant, Units 1 and 2
Docket Nos. 50-275 and 50-323
Diablo Canyon Nuclear Power Plant, Units 1 and 2—temporary exemption request from 10 CFR part 50, appendix E, biennial emergency preparedness exercise requirements due to COVID-19 pandemic, dated July 9, 2020 | ML20191A204.
Diablo Canyon Nuclear Power Plant, Units 1 and 2—temporary exemption from biennial emergency preparedness exercise frequency requirements of 10 CFR part 50, appendix E, sections IV.F.2.b and IV.F.2.c (EPID L-2020-LLE-0111 [COVID-19], dated September 18, 2020 | ML20247J651.
Dresden Nuclear Power Station, Units 2 and 3
Docket Nos. 50-237 and 50-249
Dresden Nuclear Power Station, Units 2 and 3—COVID-19 related request for exemption from 10 CFR part 26 work hours requirements, dated September 14, 2020 | ML20259A116.
Dresden Nuclear Power Station, Units 2 and 3—exemption from select requirements of 10 CFR part 26 (EPID L-2020-LLE-0143 [COVID-19]), dated September 28, 2020 | ML20259A492.
Fermi-2
Docket No. 50-341
Fermi-2—request for exemption from the annual force-on-force training requirements of 10 CFR part 73, appendix B, section VI, due to the COVID-19 PHE, dated August 6, 2020 | non-public, withheld pursuant to 10 CFR 2.390.
Fermi-2—temporary exemption from the annual force-on-force training requirements of 10 CFR part 73, appendix B, “General Criteria for Security Personnel,” section VI (EPID L-2020-LLE-0128) [COVID-19], dated September 10, 2020 | ML20226A116.
Maryland University Training Reactor
Docket No. 50-166
Maryland University Training Reactor (R-070)—request for exemption from the medical examination requirements of 10 CFR 55.21 and 10 CFR 55.53(i) for a reactor operator—REDACTED, dated August 24, 2020 | ML20241A176.
Maryland University Training Reactor (R-070)—additional information regarding the request for exemption from the medical examination requirements of 10 CFR 55.21 and 10 CFR 55.53(i) for a reactor operator submitted on August 24, 2020, dated September 2, 2020 | ML20247J390.
University of Maryland—approval of exemption from select requirements of 10 CFR part 55, “Operators' Licenses,” dated September 15, 2020 | ML20241A179.
Peach Bottom Atomic Power Station, Units 2 and 3
Docket Nos. 50-277 and 50-278
Peach Bottom Atomic Power Station, Units 2 and 3—COVID-19 related request for exemption from 10 CFR part 26 work hours requirements, dated August 28, 2020 | ML20241A078.
Peach Bottom Atomic Power Station, Units 2 and 3—exemption from select requirements of 10 CFR part 26 (EPID L-2020-LLE-0138), dated September 10, 2020 | ML20247J620.
Perry Nuclear Power Plant, Unit No. 1
Docket No. 50-440
Perry Nuclear Power Plant, Unit No. 1—request for one-time exemption from 10 CFR part 50, appendix E, biennial emergency preparedness exercise requirements due to COVID-19 pandemic, dated August 3, 2020 | ML20216A258.
Perry Nuclear Power Plant, Unit No. 1—one-time exemption from biennial emergency preparedness exercise requirements of 10 CFR part 50, appendix E, “Emergency Planning and Preparedness for Production and Utilization Facilities,” section IV.F (EPID L-2020-LLE-0125 [COVID 19]), dated September 11, 2020 | ML20246G054.
Surry Power Station, Unit Nos. 1 and 2
Docket Nos. 50-280 and 50-281
Surry Power Station, Unit Nos. 1 and 2—request for exemption from select requirements of 10 CFR part 73, appendix B, section VI, dated August 20, 2020 | non-public, withheld pursuant to 10 CFR 2.390.
Surry Power Station, Unit Nos. 1 and 2—temporary exemption from certain requirements of 10 CFR part 73, appendix B, “General Criteria for Security Personnel,” section VI (EPID L-2020-LLE-0137 [COVID-19]), dated September 16, 2020 | ML20241A000.
Susquehanna Steam Electric Station, Units 1 and 2
Docket No. 50-387 and 50-388
Susquehanna Steam Electric Station, Units 1 and 2—request for exemption from 10 CFR part 73, appendix B, section VI, during the COVID-19 PHE, dated August 18, 2020 | non-public, withheld pursuant to 10 CFR 2.390.
Susquehanna Steam Electric Station, Units 1 and 2—exemption request from certain requirements of 10 CFR part 73, appendix B, “General Criteria for Security Personnel” (EPID L-2020-LLE-0094 [COVID-19]), dated September 22, 2020 | ML20232C272.

Dated: October 13, 2020.
For the Nuclear Regulatory Commission.
James G. Danna,
Chief, Plant Licensing Branch I, Division of Operating Reactor Licensing, Office of Nuclear Reactor Regulation.

[FR Doc. 2020-22970 Filed 10-15-20; 8:45 am]

BILLING CODE 7590-01-P